DEPARTMENT OF HEALTH AND HUMAN SERVICES

Centers for Disease Control and Prevention

[30Day-15-14CP]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System for the State Public Health Actions Cooperative Agreement—New—National Center for Chronic Disease Prevention and Health Promotion (NCCDPHP), Centers for Disease Control and Prevention (CDC).

Background and Brief Description

In 2013, CDC initiated a new cooperative agreement program: “State Public Health Actions to Prevent and Control Diabetes, Heart Disease, Obesity and Associated Risk Factors and Promote School Health,” under Funding Opportunity Announcement (FOA) DP13-1305. The new program, commonly referred to as the State Public Health Actions program, provides funding for integrated approaches to preventing and managing chronic conditions that share common risk factors. Cooperative agreement awards were made to all 50 states and the District of Columbia. Thirty-two (32) awardees were funded at the Enhanced level to implement evidence-based environmental approaches that address the underlying causes of chronic diseases, and interventions that strengthen systems and resources for early detection and better management of chronic diseases. Nineteen (19) awardees were initially funded at the Basic level for health promotion, epidemiology, and surveillance activities. In 2014, all awardees received supplemental funding to increase program activities. Basic-level awardees received supplemental funding to incorporate a number of additional interventions also being implemented by awardees funded at the Enhanced level. Enhanced-level awardees received additional funds to increase the number and intensity of activities occurring within already selected interventions.

CDC requests OMB approval to collect performance monitoring information from all awardees participating in the State Public Health Actions program. Annually, each awardee will submit a Work Plan, Budget, and Evaluation Plan. The Work Plan and Budget information will be submitted to CDC by completing a spreadsheet template, and uploading the information to a secure, password-protected FTP site. Evaluation Plans will also be submitted to CDC via the secure FTP site, but will be based on commonly available word processing software. CDC initially considered collecting information through a customized, Web-based management information system (MIS), but has decided to implement a revised information collection plan utilizing commonly available commercial software. By developing user-friendly templates (tools) for this software, CDC anticipates that the reporting and tracking burden for awardees will be reduced due to: (1) Awardees' familiarity with the software, which reduces training burden; and (2) the compatibility of the templates with other record keeping processes that are already in place for many awardees. CDC staff and contractors will be responsible for converting each awardee's submissions into a secure MIS for reporting and analysis.

CDC anticipates that respondent burden will be greatest for the initial Work Plan, Budget, and Evaluation Plan submissions. A separate allocation for the burden associated with initial population of the reporting tools is provided, and is annualized over the three-year clearance period. Burden per response for routine annual reporting is lower since annual Work Plan, Budget, and Evaluation progress reports will be limited to entering changes, updates, and new activities. Overall, CDC anticipates that burden will be lower for awardees funded at the Basic level (including the 2014 supplement) than for awardees funded at the Enhanced level.

The information to be collected will help CDC and awardees assure compliance with cooperative agreement requirements, support program evaluation efforts, and obtain information needed to respond to inquiries about program activities and effectiveness from Congress and other sources. Budget information will be collected and tracked to assure proper disbursement of, and accounting for, funds awarded.

OMB approval is requested for three years. Participation is required as a condition of cooperative agreement funding. There are no costs to respondents other than their time. The total estimated burden hours are 665.

Estimated Annualized Burden Hours
Type of respondents | Form name | Number of respondents | Number of responses per respondent | Average burden per response (in hours)
FOA 1305 Program Awardees Basic Level Supplement | Initial Work Plan | 6 | 1 | 6
| Initial Budget | 6 | 1 | 4
| Initial Evaluation Plan | 6 | 1 | 4
| Annual Work Plan Progress Report | 19 | 1 | 1
| Annual Budget Progress Report | 19 | 1 | 1
| Annual Evaluation Report | 19 | 1 | 2
FOA 1305 Program Awardees Enhanced Level | Initial Work Plan | 11 | 1 | 12
| Initial Budget | 11 | 1 | 9
| Initial Evaluation Plan | 11 | 1 | 6
| Annual Work Plan Progress Report | 32 | 1 | 2
| Annual Budget Progress Report | 32 | 1 | 1.5
| Annual Evaluation Report | 32 | 1 | 3

Leroy A. Richardson,
Chief, Information Collection Review Office, Office of Scientific Integrity, Office of the Associate Director for Science, Office of the Director, Centers for Disease Control and Prevention.

[FR Doc. 2014-26352 Filed 11-5-14; 8:45 am]

BILLING CODE 4163-18-P